DEPARTMENT OF VETERANS AFFAIRS

38 CFR Part 1

Collection of Debts Owed by Reason of Participation in a Benefits Program

CFR Correction

In Title 38 of the Code of Federal Regulations, Parts 0 to 17, revised as of July 1, 2008, on page 91, in § 1.911, remove paragraphs (b)(1) through (b)(4).

[FR Doc. E9-14689 Filed 6-19-09; 8:45 am]

BILLING CODE 1505-01-D